ENVIRONMENTAL PROTECTION AGENCY

[EPA-HQ-OAR-2007-0281; FRL-8538-5]

Agency Information Collection Activities; Submission to OMB for Review and Approval; Comment Request; Prevention of Significant Deterioration and Nonattainment New Source Review (Final Rule for Implementation of the New Source Review (NSR) Program for Particulate Matter Less Than 2.5 Micrometers (PM2.5); EPA ICR No. 1230.21; OMB Control No. 2060-0003

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to revise an existing approved collection. The ICR, which is abstracted below, describes the nature of the information collection and its estimated burden and cost.

DATES: Additional comments may be submitted on or before April 7, 2008.

ADDRESSES: Submit your comments, referencing Docket ID No. EPA-HQ-OAR-2007-0281, to (1) EPA online using www.regulations.gov (our preferred method), by email to a-and-r-Docket@epa.gov, or by mail to: EPA Docket Center, Environmental Protection Agency, Air and Radiation Docket and Information Center, Mail Code 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Mr. Raghavendra (Raj) Rao, Air Quality Policy Division (C504-03), Office of Air Quality Planning and Standards, U.S. Environmental Protection Agency, Research Triangle Park, NC 27711; telephone number: (919) 541-3195; fax number: (919) 541-5509; e-mail address: rao.raj@epa.gov; or Mr. Dan deRoeck, at the same address, telephone 919-541-5593, or e-mail at deroeck.dan@epa.gov.

SUPPLEMENTARY INFORMATION: EPA has submitted the following ICR to OMB for review and approval according to the procedures prescribed in 5 CFR 1320.12. On May 18, 2007 (72 FR 28041), EPA sought comments on this ICR pursuant to 5 CFR 1320.8(d). EPA received no substantive comments during the comment period. Any additional comments on this ICR should be submitted to EPA and OMB within 30 days of this notice.

EPA has established a public docket for this ICR under Docket ID No. EPA-HQ-OAR-2007-0281, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Prevention of Significant Deterioration and Nonattainment New Source Review (Final Rule for Implementation of the New Source Review (NSR) Program for Particulate Matter Less Than 2.5 Micrometers (PM2.5)).

ICR numbers: EPA ICR No. 1230.21, OMB Control No. 2060-0003.

ICR Status: This ICR is for a revision to an existing, approved information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The major New Source Review (NSR) program is a preconstruction review and permitting program for new major sources of air pollutants and major modifications at existing major sources. The program is required under parts C and D of title I of the Clean Air Act. The types of information collection activities associated with the major NSR program are those necessary for the preparation and submittal of construction permit applications (by major sources) and the issuance of final permits (by the State and local regulatory agencies or “reviewing authorities”). For EPA to carry out its required oversight function of reviewing construction permits and assuring adequate implementation of the program, it must have available to it information on proposed construction and modifications. The major NSR rule changes addressed in this ICR add PM2.5 and its precursors to the list of pollutants that must be addressed in a major NSR permit action, but do not otherwise change the requirements of the program.

Burden Statement: The public reporting and recordkeeping burden for this collection of information is estimated to increase by an average of 52 hours per major NSR permit over the currently approved level of 668 hours per permit. The annual burden for reviewing authorities to administer a major NSR program is estimated to increase by an average of 144 hours over the currently approved level of 1,117 hours per year.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are major sources of air pollutants that emit PM2.5 and must apply for and obtain a preconstruction permit under the major NSR program. In addition, State and local air reviewing authorities who administer the major NSR program are potentially affected entities.

Estimated Number of Respondents: 753 major NSR permits per year obtained by sources; 112 State and local reviewing authorities.

Frequency of Response: On occasion.

Estimated Increase in Annual Hour Burden: The incremental increase in annual burden estimated to result from the revisions to the major NSR regulations totals 38,875 hours for sources and 16,107 hours for reviewing authorities. The currently approved ICR for the entire NSR program (major and minor) includes 5,851,126 for sources and reviewing authorities.

Estimated Increase in Annual Cost: The incremental increase in annual costs attributable to the major NSR rule revisions is about $4,268,991 for sources, which includes an estimated labor cost of $2,546,313 million, an estimated O&M cost of $1,722,678, and no capital costs.

The incremental increase in annual costs attributable to the major NSR rule revisions for reviewing authorities is $701,152 in labor costs and no capital or O&M costs.

Dated: February 28, 2008.
Sara Hisel-McCoy,
Director, Collection Strategies Division.

[FR Doc. E8-4348 Filed 3-5-08; 8:45 am]

BILLING CODE 6560-50-P